DEPARTMENT OF TRANSPORTATION

Surface Transportation Board

[Docket No. AB 290 (Sub-No. 358X); Docket No. AB 55 (Sub-No. 732X)]

Norfolk Southern Railway Company—Discontinuance of Service Exemption—in Claiborne County, TN, and Bell County, KY; CSX Transportation, Inc.—Discontinuance of Trackage Rights Exemption—in Claiborne County, TN, and Bell County, KY

Norfolk Southern Railway Company (NSR) and CSX Transportation, Inc. (CSXT) (collectively, applicants), have jointly filed a verified notice of exemption under 49 CFR part 1152 Subpart F—Exempt Abandonments and Discontinuances of Service and Trackage Rights for NSR to discontinue service over, and for CSXT to discontinue trackage rights operations over, approximately 5.0 miles of rail line between milepost 80.0 C, north of Clairfield in Claiborne County, Tenn., and milepost 85.0, at Fonde in Bell County, Ky. (the Line). The Line traverses United States Postal Service Zip Codes 37715 and 40940.

NSR and CSXT have certified that: (1) No local traffic has moved over the Line for at least two years; (2) any overhead traffic can be rerouted over other lines; (3) no formal complaint filed by a user of rail service on the Line (or by a state or local government entity acting on behalf of such user) regarding cessation of service over the line either is pending with the Surface Transportation Board (Board) or with any U.S. District Court or has been decided in favor of complainant within the two-year period; and (4) the requirements of 49 CFR 1105.12 (newspaper publication) and 49 CFR 1152.50(d)(1) (notice to governmental agencies) have been met.

As a condition to these exemptions, any employee adversely affected by the service discontinuance/discontinuance of trackage rights shall be protected under Oregon Short Line Railroad—Abandonment Portion Goshen Branch Between Firth & Ammon. in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, these exemptions will be effective on November 1, 2013, unless stayed pending reconsideration. Petitions to stay that do not involve environmental issues and formal expressions of intent to file an OFA to subsidize continued rail service under 49 CFR 1152.27(c)(2) ¹ must be filed by October 15, 2013.² Petitions to reopen must be filed by October 22, 2013, with the Surface Transportation Board, 395 E Street SW., Washington, DC 20423-0001.

¹ Each OFA must be accompanied by the filing fee, which currently is set at $1,600. See 49 CFR 1002.2(f)(25).

² Because applicants are seeking to discontinue service, not to abandon the line, trail use/rail banking and public use conditions are not appropriate. Likewise, no environmental or historical documentation is required here under 49 CFR§ 1105.6(c) and 1105.8(b), respectively.

A copy of any petition filed with the Board should be sent to applicants' representatives: Louis E. Gitomer, 600 Baltimore Ave., Suite 301, Towson, MD 21204, and Robert A. Wimbish, 2401 Pennsylvania Ave. NW., Suite 300, Washington, DC 20037.

If the verified notice contains false or misleading information, the exemptions are void ab initio.

Board decisions and notices are available on our Web site at “www.stb.dot.gov.”

Decided: September 26, 2013.
By the Board, Richard Armstrong, Acting Director, Office of Proceedings.
Jeffrey Herzig,
Clearance Clerk.

[FR Doc. 2013-23922 Filed 9-30-13; 8:45 am]

BILLING CODE 4915-01-P